FEDERAL COMMUNICATIONS COMMISSION

47 CFR Part 73

[MB Docket No. 18-72, RM-11796; DA 18-101]

Radio Broadcasting Services; Desert Hills, Arizona

AGENCY: Federal Communications Commission.

ACTION: Proposed rule.

SUMMARY: This document requests comments on a petition for rulemaking filed by L. Topaz Enterprises, Inc. (Petitioner), proposing to amend the FM Table of Allotments by allotting Channel 292A at Desert Hills, Arizona, as a second local service. Petitioner states that the proposed allotment will provide additional diversity and an outlet for local residents. A staff engineering analysis indicates that Channel 292A can be allotted to Desert Hills consistent with the minimum distance separation requirements of the Commission's rules. The reference coordinates are 34-32-58 NL and 114-22-2 WL with no site restriction.

DATES: Comments must be filed on or before March 26, 2018, and reply comments on or before April 10, 2018.

ADDRESSES: You may submit comments, identified by MB Docket No. 18-72, by any of the following methods:

• Federal Communications Commission's Website: http://apps.fcc.gov/ecfs//. Follow the instructions for submitting comments.

• People With Disabilities: Contact the FCC to request reasonable accommodations (accessible format documents, sign language interpreters, CART, etc.) by email: FCC504@fcc.gov or phone: 202-418-0530 or TTY: 888-835-5322.

In addition to filing comments with the FCC, interested parties should serve the petitioner as follows: Dale A. Ganske, L. Topaz Enterprise, Inc., 3325 Conservancy Lane, Middleton, WI 53562.

FOR FURTHER INFORMATION CONTACT: Adrienne Y. Denysyk, Media Bureau, (202) 418-2651.

SUPPLEMENTARY INFORMATION: This is a summary of the Commission's Notice of Proposed Rulemaking, MB Docket No. 18-27, adopted February 2, 2018, and released February 2, 2018. The full text of this document is available for inspection and copying during normal business hours in the FCC's Reference Information Center at Portals II, CY-A257, 445 Twelfth Street SW, Washington, DC 20554. The full text of this document is also available online at http://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Arizona, is amended by adding Desert Hills, Channel 292A, to read as follows in alphabetical order:

§ 73.202 Table of Allotments.

* * * * *

(b) Table of FM Allotments.

Arizona
* * * * *
Desert Hills | 292A
* * * * *

* * * * *

[FR Doc. 2018-04115 Filed 2-28-18; 8:45 am]

BILLING CODE 6712-01-P